DEPARTMENT OF LABOR

Pension and Welfare Benefits Administration

Proposed Extension of Information Collection; Comment Request

ACTION: Notice.

SUMMARY: The Department of Labor, as part of its continuing effort to reduce paperwork and respondent burden, conducts a preclearance consultation program to provide the general public and Federal agencies with an opportunity to comment on proposed and continuing collections of information in accordance with the Paperwork Reduction Act of 1995 (PRA 95) (44 U.S.C. 3506(c)(2)(A)). This helps to ensure that requested data can be provided in the desired format, reporting burden (time and financial resources) is minimized, collection instruments are clearly understood, and the impact of collection requirements on respondents can be properly assessed.

Currently, the Pension and Welfare Benefits Administration is soliciting comments concerning the information collection request (ICR) incorporated in the regulation pertaining to Disclosure by Insurers to General Account Policyholders pursuant to ERISA Section 401(c) and 29 CFR 2550.401c-1. A copy of the ICR may be obtained by contacting the office listed in the addresses section of this notice.

DATES: Written comments must be submitted to the office shown in the address section below on or before September 23, 2002.

ADDRESSES: Gerald B. Lindrew, Office of Policy and Research, U.S. Department of Labor, Pension and Welfare Benefits Administration, 200 Constitution Avenue, NW., Room N-5647, Washington, DC 20210. Telephone: (202) 694-8410; Fax: (202) 219-4745. These are not toll-free numbers.

SUPPLEMENTARY INFORMATION:

I. Background

Section 1460 of the Small Business Job Protection Act of 1996 (Pub. L. 104-188) amended ERISA by adding Section 401(c), which clarified the extent to which assets of an insurer's general accounts constitute assets of an employee benefit plan when that insurer has issued policies for the benefit of a plan, and such policies are supported by assets of the general account. Section 401(c) established certain requirements and disclosures for companies that offer and maintain policies for employee benefits plans where the underlying assets are held in the insurer's general account. Section 401(c) also required the Secretary to provide guidance on the statutory requirements, which was issued as a final rulemaking on January 5, 2000 (65 CFR 614). The regulation includes information collection provisions pertaining to one-time and annual disclosure obligations of insurers.

II. Desired Focus of Comments

The Department is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. Current Action

This notice requests comments on the extension of the ICR included in the regulation pertaining to Disclosures by Insurers to General Account Policyholders. The Department is not proposing or implementing changes to the existing ICR at this time.

Type of Review: Extension of a currently approved collection of information.

Agency: Pension and Welfare Benefits Administration, Department of Labor.

Titles: Disclosures by Insurers to General Account Policyholders.

OMB Number: 1210-0114.

Affected Public: Individuals or households; Business or other for-profit; Not-for-profit institutions.

Respondents: 104.

Frequency of Response: One-time; Annual.

Responses: 123,500.

Estimated Total Burden Hours: 466,667.

Comments submitted in response to this notice will be summarized and/or included in the request for OMB approval of the information collection request; they will also become a matter of public record.

Dated: July 19, 2002.
Gerald B. Lindrew,
Deputy Director, Office of Policy and Research Pension and Welfare Benefits Administration.

[FR Doc. 02-18874 Filed 7-24-02; 8:45 am]

BILLING CODE 4510-29-M